DEPARTMENT OF HEALTH AND HUMAN SERVICES

Administration for Children and Families

[OMB No. 0970-0234]

Proposed Information Collection Activity; Social Services Block Grant (SSBG) Post-Expenditure Report, Pre-Expenditure Report, and Intended Use Plan

AGENCY: Office of Community Services, Administration for Children and Families, HHS.

ACTION: Request for Public Comment.

SUMMARY: The Administration for Children and Families (ACF) is requesting a revision to the Social Services Block Grant (SSBG) Post-Expenditure Report, Pre-Expenditure Report, and Intended Use Plan (OMB #0970-0234), previously titled, “Social Services Block Grant (SSBG) Post-Expenditure Report”). ACF is proposing to expand the information collection to include the collection of states' Intended Use Plans and retitle the information collection to clarify the role of the Pre-Expenditure Report.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: On an annual basis, states and territories are required to submit the following reports: (1) An Intended Use Plan that provides data and narrative descriptions related to the state's SSBG program. The Intended Use Plan includes details about the delivery of SSBG services and the state agency administering the SSBG Program. ACF is proposing to expand the currently approved information collection to include collection of states' Intended Use Plans. Grantees are required to submit their Intended Use Plans no less than 30 days prior to the start of the budget period covered by the report. (2) A Pre-Expenditure Report that demonstrates the state's anticipated allocation of SSBG funding among the 29 pre-defined SSBG service categories. Historically, states have submitted this report using the Post-Expenditure Report Form, and the associated burden is included in the currently approved information collection. Grantees are required to submit their Pre-Expenditure Report no less than 30 days prior to the start of the budget period covered by the report. (3) A Post-Expenditure Report that details the state's actual use of SSBG funding among each of the 29 service categories. Grantees are required to submit their Post-Expenditure Report within 6 months of the end of the period covered by the report.

Respondents: Agencies that administer the SSBG at the state or territory level, including the 50 states; District of Columbia; Puerto Rico; and the territories of American Samoa, Guam, the Virgin Islands, and the Commonwealth of Northern Mariana Islands.

Annual Burden Estimates

This request is specific to the Intended Use Plan. Currently approved materials and associated burden can be found at: https://www.reginfo.gov/public/do/PRAViewICR?ref_nbr=202011-0970-006.

Instrument | Annual number of respondents | Annual number of responses per respondent | Average burden hours per response | Total/annual burden hours
Intended Use Plan | 56 | 1 | 40 | 2,240

Estimated Total Annual Burden Hours: 2,240.

Comments: The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 1397 through 1397e.

Mary B. Jones,
ACF/OPRE Certifying Officer.

[FR Doc. 2020-27015 Filed 12-8-20; 8:45 am]

BILLING CODE 4184-24-P